DEPARTMENT OF THE INTERIOR

Office of the Secretary

[189D0102DM_DS62470000_DMSN00000.000000_DX.62407.CEN00000; OMB Control Number 1085-0001]

Agency Information Collection Activities; Source Directory of American Indian and Alaska Native Owned and Operated Arts and Crafts Businesses

AGENCY: Indian Arts and Crafts Board, Interior.

ACTION: Notice of information collection; request for comment.

SUMMARY: In accordance with the Paperwork Reduction Act of 1995, The Indian Arts and Crafts Board (IACB) is proposing to renew an information collection.

DATES: Interested persons are invited to submit comments on or before March 19, 2018.

ADDRESSES: Send written comments on this information collection request (ICR) to the Office of Management and Budget's Desk Officer for the Department of the Interior by email at OIRA_Submission@omb.eop.gov; or via facsimile to (202) 395-5806. Please provide a copy of your comments to Meridith Z. Stanton, Indian Arts and Crafts Board, U.S. Department of the Interior, MS 2528-MIB, 1849 C Street NW, Washington, DC 20240. If you wish to submit comments by facsimile, the number is (202) 208 5196, or by email to (iacb@ios.doi.gov). Please include “1085-0001” in the subject line of your comments.

FOR FURTHER INFORMATION CONTACT: To request additional information about this ICR, contact Meridith Z. Stanton, Indian Arts and Crafts Board, U.S. Department of the Interior, MS 2528-MIB, 1849 C Street NW, Washington, DC 20240. If you wish to submit comments by facsimile, the number is (202) 208 5196, or by email to (iacb@ios.doi.gov). You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on November 3, 2017 (82 FR 51289). No comments were received.

We are again soliciting comments on the proposed ICR that is described below. We are especially interested in public comment addressing the following issues: (1) Is the collection necessary to the proper functions of the IACB; (2) will this information be processed and used in a timely manner; (3) is the estimate of burden accurate; (4) how might the IACB enhance the quality, utility, and clarity of the information to be collected; and (5) how might the IACB minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Source Directory of American Indian and Alaska Native owned and operated arts and crafts enterprises is a program of the Indian Arts and Crafts Board that promotes American Indian and Alaska Native arts and crafts. The Source Directory is a listing of American Indian and Alaska Native owned and operated arts and crafts businesses that may be accessed by the public on the Indian Arts and Crafts Board's website http://www.doi.gov/iacb.

The service of being listed in this directory is provided free-of-charge to members of federally recognized tribes. Businesses listed in the Source Directory include American Indian and Alaska Native artists and craftspeople, cooperatives, tribal arts and crafts enterprises, businesses privately-owned-and-operated by American Indian and Alaska Native artists, designers, and craftspeople, and businesses privately owned-and-operated by American Indian and Alaska Native merchants who retail and/or wholesale authentic Indian and Alaska Native arts and crafts. Business listings in the Source Directory are arranged alphabetically by State.

The Director of the Board uses this information to determine whether an individual or business applying to be listed in the Source Directory meets the requirements for listing. The approved application will be printed in the Source Directory. The Source Directory is updated as needed to include new businesses and to update existing information. There is one type of application form, with a box to check what type of listing they are applying for: (1) New businesses—group; (2) new businesses—individual; (3) businesses already listed—group; and (4) businesses already listed—individual.

Title of Collection: Source Directory of American Indian and Alaska Native Owned and Operated Arts and Crafts Businesses.

OMB Control Number: 1085-0001.

Form Numbers: FWS Forms 3-2354 through 3-2362.

Type of Review: Extension of a currently approved collection.

Respondents/Affected Public: Individuals/households.

Total Estimated Number of Annual Responses: 100.

Total Estimated Number of Annual Burden Hours: 25.

Respondent's Obligation: Required to Obtain or Retain a Benefit.

Frequency of Collection: As needed.

Total Estimated Annual Non-hour Burden Cost: None.

An agency may not conduct or sponsor and a person is not required to respond to a collection of information unless it displays a currently valid OMB control number.

The authority for this action is the Paperwork Reduction Act of 1995 (44 U.S.C. 3501 et seq).

Meridith Z. Stanton,
Director, Indian Arts and Crafts Board.

[FR Doc. 2018-03176 Filed 2-14-18; 8:45 am]

BILLING CODE 4334-63-P